NATIONAL SCIENCE FOUNDATION

Sunshine Act Meetings

The National Science Board (NSB) and the NSB Committee on Strategy (CS) hereby give notice of the scheduling of meetings for the transaction of National Science Board business pursuant to the National Science Foundation Act and the Government in the Sunshine Act.

TIME AND DATE: Tuesday, August 15, 2023, from 9:00 a.m.-5:20 p.m. and Wednesday, August 16, 2023, from 8:30 a.m.-2:25 p.m. EDT.

PLACE: These meetings will be held at NSF headquarters, 2415 Eisenhower Avenue, Alexandria, VA 22314, and by videoconference. If the COVID status for Alexandria, Virginia goes to “high,” please fill out and bring OMB's certification of vaccination form with you. All open sessions of the meeting will be webcast live on the NSB YouTube channel.

August 15, 2023— https://youtube.com/watch?v=N8-_Lf3lY4E

August 16, 2023— https://youtube.com/watch?v=E7OTUOCV5HE

STATUS: Parts of these meetings will be open to the public. The rest of the meetings will be closed to the public. See full description below.

MATTERS TO BE CONSIDERED:

Tuesday, August 15, 2023

Plenary Board Meeting

Open Session: 9:00-11:55 a.m.

• NSB Chair's Opening Remarks

• NSF Director's Remarks

• NSB Presentation, Vision 2030—Developing STEM Talent

• NSB Panel, STEM Workforce Shortages Across the Federal Government

Open Session: 12:55-2:45 p.m.

• NSF Office of International Science and Engineering briefing

• NSB Committee Reports

○ Committee on External Engagement

○ update on engagement initiatives

○ Committee on Science and Engineering Policy

○ Indicators 2024

○ Talent Development Team

○ National Security Team

• Approval of May 2023 open meeting minutes

• 2024 NSB meeting dates vote

Closed Session: 3:00-3:55 p.m.

• NSB Chair's Remarks

• Approval of May 2023 Closed Meeting Minutes

• NSF Director's Remarks

• Agency Operating Status

• NSB Committee Reports

○ Subcommittee on Technology, Innovation, and Partnerships

○ update on Status of NSF Engines Type 2 Competition

○ NSF Engines Progress Monitoring and Interim Goals and Metrics

○ Quadrennial Review

• Committee on Strategy

○ NSF Budget

Committee on Strategy

Closed Meeting: 4:05-5:05 p.m.

• Committee Chair's Opening Remarks on the Agenda

• Approval of minutes for the July 28, 2023 meeting

• NSF FY 2025 Budget Development Update

• Consensus Statement on NSF's FY25 Budget Submission to the Office of Management and Budget

Plenary NSB

Closed Session: 5:05-5:20 p.m.

• NSB FY25 Budget Presentation

• Resolution related to NSF's FY25 Budget Submission to the Office of Management and Budget

Wednesday, August 16, 2023

Plenary Board Meeting

Open Session: 8:30-10:50 a.m.

• NSB Chair's Opening Remarks

• NSB Committee Reports

○ Subcommittee on Technology, Innovation, and Partnerships

○ NSF Engines Type 2 Finalists Update

○ NSB-NSF Commission on Merit Review

○ Workplan and Timeline Update

○ Commission Activities

• NSF Research Security and Integrity Information Sharing and Analysis Organization—SECURE, Update

• NSF Sexual Assault/Harassment Prevention Report Update

• Office of the Inspector General (OIG)

○ Briefing on the OIG's Engagement in Antarctica

Plenary Board Meeting

Closed Session: 10:50-11:10 a.m.

• NSF Sexual Assault/Harassment Prevention Report Update

Plenary Board Meeting

Closed Session: 11:55 a.m.-1:10 p.m.

• NSB Committee Reports

○ Committee on National Science and Engineering Policy

○ Quadrennial Review Update

○ Committee on Awards and Facilities Report

Discussion and vote on advice related to:

Renewal of Laser Interferometer Gravitational-Wave Observatory (LIGO) Operations and Management Award

Arecibo Record of Decision

○ NSB-NSF Commission on Merit Review

• Vote to move into Executive Plenary Closed

Plenary Board

Closed (Executive) Session: 1:20 p.m.-2:25 p.m.

• NSB Chair's Opening Remarks

• Approval of May 2023 Executive Plenary closed meeting minutes

• Committee on Nominations, Class of 2024-2030

• NSF Director's Remarks

○ Personnel topics

• NSB Chair's Closing Remarks

Meeting Adjourns: 2:25 p.m.

Portions Open to the Public

Tuesday, August 15, 2023

9:00 a.m.-11:55 a.m. Plenary NSB

12:55 p.m.-2:45 p.m. Plenary NSB

Wednesday, August 16, 2023

8:30 a.m.-10:50 a.m. Plenary NSB

Portions Closed to the Public

Tuesday, August 15, 2023

3:00 p.m.-3:55 p.m. Plenary NSB

4:05 p.m.-5:05 p.m. Committee on Strategy

5:05 p.m.-5:20 p.m. Plenary NSB

Wednesday, August 16, 2023

10:50 a.m.-11:10 a.m. Plenary NSB

11:55 a.m.-1:10 p.m. Plenary NSB

1:20 p.m.-2:25 p.m. Plenary NSB (executive session)

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION: The NSB Office contact is Christopher Blair, cblair@nsf.gov, 703-292-7000. The NSB Public Affairs contact is Nadine Lymn, nlymn@nsf.gov, 703-292-2490. Please refer to the NSB website for additional information: https://www.nsf.gov/nsb.

Christopher Blair,
Executive Assistant to the National Science Board Office.

[FR Doc. 2023-17356 Filed 8-9-23; 11:15 am]

BILLING CODE 7555-01-P